FEDERAL COMMUNICATIONS COMMISSION

[FRS 16575]

Privacy Act of 1974; System of Records

AGENCY: Federal Communications Commission.

ACTION: Notice of a new system of records.

SUMMARY: The Federal Communications Commission (FCC, Commission, or Agency) proposes to add a new system of records, FCC/OMD-29, Motor Vehicle Management Program (MVMP), subject to the Privacy Act of 1974, as amended. This action is necessary to meet the requirements of the Privacy Act to publish in the Federal Register notice of the existence and character of records maintained by the Agency. The FCC's Office of Managing Director (OMD) will use this new system to cover the personally identifiable information (PII) that is contained in the forms, databases, and related documents, forms, and materials associated with the FCC's Motor Vehicles Management Program (MVMP).

DATES: This action will become effective on June 17, 2020. Written comments on the system's routine uses are due by June 17, 2020. The routine uses in this action will become effective on June 17, 2020 unless written comments are received that require a contrary determination.

ADDRESSES: Send comments to Leslie F. Smith, Privacy Manager, Information Technology (IT), Federal Communications Commission, 445 12th Street SW, Washington, DC 20554, or via the internet at Leslie.Smith@fcc.gov.

FOR FURTHER INFORMATION CONTACT: Leslie F. Smith, (202) 418-0217, or Leslie.Smith@fcc.gov (and to obtain a copy of the Narrative Statement).

SUPPLEMENTARY INFORMATION:

The FCC's Administrative Services Center (ASC) in the Office of Managing Director (OMD) is responsible for the development and management of the MVMP, which is used by the FCC's bureaus and offices. The MVMP maintains and uses information that is necessary for the FCC to provide an adequate, efficient, safe, and economical transportation program for FCC officials and staff consistent with the FCC's policies and programs. The MVMP will do this by:

1. Managing the operation, maintenance, repair, and associated activities of the Commission's owned and/or leased motor vehicle pool that is used by FCC employees and contractors;

2. Monitoring vehicle uses to ensure against misuse, abuse, and/or unauthorized use (e.g., personal use) by FCC employees and contractors;

3. Maintaining records on FCC employees and contractors who are authorized and/or required to operate FCC vehicles, including, but not limited to employees in the Enforcement Bureau (EB) and the Public Safety and Homeland Security Bureau (PSHSB) who must use a vehicle in the performance of their job duties, FCC headquarters contract drivers, and other FCC employees who use FCC-owned or leased vehicles on an occasional or infrequent basis; and

4. Submitting required periodic reports on the safety, emergency, and/or accident information, and related vehicular data to the FCC's Office of General Counsel (OGC) and the Office of Managing Director (OMD) and to the General Services Administration (GSA).

System Name and Number:

FCC/OMD-29, Motor Vehicle Management Program (MVMP).

Security Classification:

Unclassified.

System Location:

Administrative Service Center (ASC), Office of Managing Director (OMD), Federal Communications Commission (FCC), 445 12th Street SW, Washington, DC 20554 and FCC facilities and field offices.

System Manager(s):

Administrative Services Center (ASC), Office of Managing Director (OMD), Federal Communications Commission (FCC), 445 12th Street SW, Washington, DC 20554.

Authority for Maintenance of the System:

5 U.S.C. 5733; 31 U.S.C. 1344, 1349; 5 CFR part 930, subpart A; 41 CFR part 102-5; 41 CFR 102-34.200, 34.220, 301-70.101(a).

Purpose(s) of the System:

The FCC's Motor Vehicle Management Program (MVMP) is used to ensure that the Commission has an efficient, economical, and safe vehicle transportation program for Commission officials and staff, which is available to meet the FCC's mission requirements. The personally identifiable information (PII) in the MVMP system includes, but is not limited to the information that is contained in the forms, databases, and other, related information and materials associated with the MVMP, which include:

1. Information that includes, but is not limited to state drivers' licensing, certification, and related records ¹ that are used to verify that FCC headquarters contract drivers (e.g., chauffeur services) and FCC employees (authorized and/or required to use FCC or leased vehicles to perform their job duties) meet applicable state licensing and the Federal operating requirements that authorize use of Federal government owned/leased vehicles, as required by 5 CFR Sections 930.109 and 930.110.

¹ The state licensing, certification, and related records are destroyed once driver validation requirements are met.

2. Health, fitness, and driving records, and related information that include, but are not limited to meeting requirements to ensure that FCC employees and contractors meet the requisite driving and fitness standards, which include, but are not limited to ensuring that they are physically capable of operating motor vehicles; maintaining good driving records; and participating in driver safety training.

3. FCC vehicles and related operating and maintenance records and related information that include, but are not limited to the operation, maintenance, damages, repairs, losses, and associated functions and activities of the FCC owned and/or leased vehicles and related equipment to ensure that vehicles are only used for official FCC purposes and to guard against the misuse, abuse, and/or unauthorized use (e.g., personal use) by employees (including the Enforcement Bureau's field operations staff) ² and contractors;

² FCC/EB-5, Enforcement Bureau Activity Tracking System (EBATS), covers the PII that is collected, stored, and used as part of EB's enforcement functions, actions, and activities.

4. Criminal, accident, and traffic citations, and related vehicular usage records, that include, but are not limited to emergencies, traffic and police reports, and related information about accidents, insurance claims, and damages that the FCC provides to the Office of General Counsel (OGC) as required; corrective actions required under 5 CFR Section 930.113 including, but not limited to situations resulting from improper use of a FCC owned/leased vehicle by an employee or contractor such as intoxication, accidents, disqualification to operate a motor vehicle due to physical, mental, emotional, or similar conditions, and/or revoked/suspended driver's license;

5. Information related to temporary usage of a vehicle by a FCC employee or contractor or non-FCC individual (i.e., individuals who are participating in FCC-related activities and functions) in special circumstances limited to emergencies threatening loss of life or property.

6. Vehicle usage records that include, but are not limited to, FCC employees authorized or who volunteer to use their own vehicles on a reimbursable basis for official, job-related functions.

Categories of Individuals Covered by the System:

The categories of individuals in this system include, but are not limited to:

1. FCC officials and employees authorized to use FCC motor vehicles for job duties (e.g., field work); authorized to use FCC owned and/or leased vehicles on infrequent or periodic basis; and/or who use personal motor vehicles (for reimbursement) for official, work-related out of town trips;

2. Authorized contract drivers at FCC headquarters (i.e., chauffeur services);

3. FCC officials, employees, and contractors, and non-FCC individuals (i.e., individuals who are participating in FCC-related activities) at Headquarters and/or FCC Field Offices who may use FCC motor vehicles on a temporary basis in emergencies, safety of life situation(s), and/or damaged property situations; passengers in FCC owned or leased vehicle, including visitors to the FCC and other government officials or employees, for “official business” with the FCC; and/or are involved in traffic accidents with FCC vehicles; and

4. Traffic officials and police, accident witnesses, vehicle drivers and passengers, and pedestrians whose information is contained in accident reports.

Categories of Records in the System:

The categories of records in this system include, but are not limited to the information concerning:

1. Driver's physical fitness records that include, but are not limited to the driver's full name, date of birth, position title, home address, employing agency, physical limitations and current status (as applicable), vision and hearing current status, certifying official, and date.

2. Driving records that include, but are not limited to state driver/operator license data including, but not limited to license type: Operator, chauffeur, and other, issue/expiration dates, restrictions, road test data, defensive driving courses, traffic violations (except parking), suspensions, and/or accidents, and signature and date.

3. Accident and associated damage, injury, and death reporting records that include, but are not limited to police motor vehicle accident reports, drivers' information, witnesses' information, home and business addresses, home and office telephone numbers, account of traffic accident's date, time, location, injured and/or deceased individuals, private property and government property damages, insurance claim(s), traffic case number(s), government vehicles and private vehicles trip and accident details, accident diagram(s), and signatures and dates.³

³ FCC/OMD-31, Private or Civil Injury Claimants, covers the PII the Commission uses in determining whether a damage claim filed against the FCC should be paid and for reference purposes when similar cases arise.

4. Motor vehicle dispatch, trip request, and fiscal year vehicle operations records that include, but are not limited to vehicle trip and maintenance data including but not limited to passengers and signatures, trip dates, departure/return times, destination/nature of trips, vehicle fuel and maintenance records, odometer readings, credit card purchases, and driver's instructions, notes, and signature. The MVMP uses a commercial software application to manage these records.

Record Source Categories:

The sources for the information in the MVMP system include, but are not limited to FCC Forms A-45, A-45-A, A-344, FCC Fiscal Year Motor Vehicle Operations Report, FCC Vehicle Request Form, Vehicle Dispatch Record, FCC Driver's Past Performance Record, FCC Request for a Private Vehicle, Federal Forms SF 91, SF 94, SF 95, OF-345, FOH-6 ME 0426, and associated state motor vehicle records, and licensing and certification documents and forms; police and transportation safety officials' reports and forms detailing safety, emergency, and/or accident information and related vehicular data and activities with associated forms, certifications, exhibits, and authorizations concerning the operation of FCC vehicles.

Routine Uses of Records Maintained in the System, Including Categories of Users and Purposes of Such Uses:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows.

1. Adjudication and Litigation—To disclose information to the Department of Justice (DOJ), or to other administrative or adjudicative body before which the FCC is authorized to appear, when: (a) The FCC or any component thereof; or (b) any employee of the FCC in his or her official capacity; or (c) any employee of the FCC in his or her individual capacity where the DOJ or the FCC have agreed to represent the employee; or (d) the United States is a party to litigation or have an interest in such litigation, and the use of such records by the DOJ or the FCC is deemed by the FCC to be relevant and necessary to the litigation.

2. Law Enforcement and Investigations—To disclose pertinent information to the appropriate Federal, State, and/or local agency responsible for investigating, prosecuting, enforcing, or implementing a statute, rule, regulation, or order, where the FCC becomes aware of an indication of a violation or potential violation of civil or criminal law or regulation.

3. Congressional Inquiries—To provide information to a Congressional office from the record of an individual in response to an inquiry from that Congressional office made at the written request of that individual.

4. Government-wide Program Management and Oversight—To disclose information to the National Archives and Records Administration (NARA) for use in its records management inspections; to the Government Accountability Office (GAO) for oversight purposes; to the Department of Justice (DOJ) to obtain that department's advice regarding disclosure obligations under the Freedom of Information Act (FOIA); or to the Office of Management and Budget (OMB) to obtain that office's advice regarding obligations under the Privacy Act.

5. Contract Services, Grants, or Cooperative Agreements—To disclose information to FCC contractors, grantees, or volunteers who have been engaged to assist the FCC in the performance of a contract service, grant, cooperative agreement, or other activity related to this system of records and who need to have access to the records in order to perform their activity. Recipients shall be required to comply with the requirements of the Privacy Act of 1974, as amended, 5 U.S.C. 552a.

6. Employment, Clearances, Licensing, Contract, Grant, or other Benefits Decisions by the FCC—To disclose information to a Federal, State, local, tribal, or other public agency or authority maintaining civil, criminal, or other relevant enforcement records, or other pertinent records, or to another public authority or professional organization, if necessary to obtain information relevant to an investigation concerning the hiring or retention of an employee or other personnel action, the issuance or retention of a license, grant, or other benefit by the Commission, to the extent that the information is relevant and necessary to the requesting agency's decisions on the matter.

7. For Certain Disclosures to Other Federal Agencies—To disclose information to a Federal agency, in response to its request in connection with the hiring or retention of an employee, the issuance of a security clearance, the conducting of a suitability or security investigation of an individual, the classifying of jobs, the letting of a contract, or the issuance of a license, grant, or other benefit by the requesting agency, to the extent that the information is relevant and necessary to the requesting agency's decision on the matter.

8. Labor Relations—To officials of labor organizations recognized under 5 U.S.C. Chapter 71 upon receipt of a formal request and in accord with the conditions of 5 U.S.C. 7114 when relevant and necessary to their duties of exclusive representation concerning personnel policies, practices, and matters affecting conditions of employment.

9. Breach Notification—To appropriate agencies, entities, and persons when: (a) The Commission suspects or has confirmed that there has been a breach of the system of records; (b) the Commission has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

10. Assistance to Federal Agencies and Entities—To another Federal agency or Federal entity, when the Commission determines that information from this system is reasonably necessary to assist the recipient agency or entity in: (a) Responding to a suspected or confirmed breach or (b) preventing, minimizing, or remedying the risk of harm to individuals, the recipient agency or entity (including its information systems, program, and operations), the Federal Government, or national security, resulting from a suspected or confirmed breach.

Reporting to a Consumer Reporting Agency:

In addition to the routine uses listed above, the Commission may share information from this system of records with a consumer reporting agency regarding an individual who has not paid a valid and overdue debt owed to the Commission, following the procedures set out in the Debt Collection Act, 31 U.S.C. 3711(e).

Policies and Practices for Storage of Records:

The information in the MVMP system includes electronic data, records, and files that are stored in the FCC's computer network databases; and paper documents, records, and files that are stored in file cabinets in the ASC office suite and in the EB office suite and field offices.

Policies and Practices for Retrieval of Records:

Information in the electronic MVMP databases and the paper documents and files can be retrieved by the driver's name.

Policies and Practices for Retention and Disposal of Records:

The FCC maintains and disposes of these records in accordance with the requirements of General Records Schedule (GRS) 5.4 issued by the National Archives and Records Administration (NARA), under the following Disposition Authorities:

Item 010: DAA-GRS-2016-0011-0001: Facility, space, vehicle, equipment, stock, and supply administrative and operational records;

Item 030: DAA-GRS-2016-0011-0003: Vehicle and equipment ownership records and operation manual;

Item 040: DAA-GRS-2016-0011-0004: Excess personal property, equipment, and vehicle records;

Item 090: DAA-GRS-2016-0011-0011: Land vehicle and water vessel inspection, maintenance, and service records;

Item 110: DAA-GRS-2016-0011-0014: Vehicle and heavy equipment operator records; ⁴ and

⁴ The FCC collects and uses state drivers' licensing and certification information only on a temporary basis to verify that FCC headquarters contract drivers (i.e., chauffeur services) and FCC employees (authorized and/or required to use FCC owned or leased vehicles to perform their job duties) meet applicable state licensing and Federal operating requirements that authorize use of Federal government owned/leased vehicles, as required by 5 CFR Sections 930.109 and 930.110. This information is destroyed once each driver's information is validated.

Item 140: DAA-GRS-2016-0011-0017: Vehicle and vessel accident and incident records.

Administrative, Technical, and Physical Safeguards:

The electronic records, files, and data are stored within FCC accreditation boundaries. Access to the electronic files is restricted to authorized ASC supervisors, employees, and contractors in the Office of Managing Director; the supervisors, employees, and contractors in EB and OGC; and the IT staff, contractors, and vendors who maintain the networks and services. Other FCC employees, contractors, vendors, and users may be granted access on a need-to-know basis. The records in the FCC's computer network are protected by the FCC and third-party privacy safeguards, a comprehensive and dynamic set of IT safety and security protocols and features that are designed to meet all Federal IT privacy standards, including those required by the Federal Information Security Modernization Act of 2014 (FISMA), the Office of Management and Budget (OMB), and the National Institute of Standards and Technology (NIST).

The paper documents are maintained in file cabinets that are located in the ASC, EB, OGC, and OMD office suites. Access to the file cabinets in these office suites is through a card-coded main door. The file cabinets are locked at the end of the day, or when not in use. Access to these files is restricted to authorized ASC, EB, OGC, and OMD supervisors, employees, and contractors.

Record Access Procedures:

Individuals wishing to request access to and/or amendment of records about them should follow the Notification Procedure below.

Contesting Record Procedures:

Individuals wishing to request an amendment of records about them should follow the Notification Procedure below.

Notification Procedures:

Individuals wishing to determine whether this system of records contains information about them may do so by writing to Leslie F. Smith, Privacy Manager, Information Technology, Federal Communications Commission, 445 12th Street SW, Washington, DC 20554, or email Leslie.Smith@fcc.gov and following the procedures set forth in the FCC's Privacy Act regulations regarding verification of identity and access to records, 47 CFR Part 0, Subpart E.

Exemptions Promulgated for the System:

None.

History:

This is a new system of records.

Federal Communications Commission.
Marlene Dortch,
Secretary.

[FR Doc. 2020-10533 Filed 5-15-20; 8:45 am]

BILLING CODE 6712-01-P